DEPARTMENT OF ENERGY

Federal Energy Regulatory Commission

[Project No. 2106-059]

McCloud-Pit Project; Notice of Availability of the Draft Environmental Impact Statement for the McCloud-Pit Hydroelectric Project and Intention To Hold Public Meetings

July 30, 2010.

In accordance with the National Environmental Policy Act of 1969 and the Federal Energy Regulatory Commission (Commission or FERC) regulations contained in the Code of Federal Regulations (CFR) (18 CFR part 380 [FERC Order No. 486, 52 FR 47897]), the Office of Energy Projects has reviewed the application for license for the McCloud-Pit Hydroelectric Project (FERC No. 2106), located on the McCloud and Pit Rivers in Shasta County, California, and has prepared a draft environmental impact statement (EIS) for the project. The project occupies 1,621.9 acres of federal lands managed by the U.S. Department of Agriculture-Forest Service and 29.5 acres of federal lands managed by the U.S. Bureau of Land Management.

The draft EIS contains staff's analysis of the applicant's proposal and the alternatives for relicensing the McCloud-Pit Project. The draft EIS documents the views of governmental agencies, non-governmental organizations, affected Indian tribes, the public, the license applicant, and Commission staff.

A copy of the draft EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via e-mail of new filings and issuances related to this or other pending projects. For assistance, contact FERC Online Support.

All comments must be filed by Tuesday, September 28, 2010, and should reference Project No. 2106-059. Comments may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support. Although the Commission strongly encourages electronic filing, documents may also be paper-filed. To paper-file, mail an original and eight copies to: Kimberly D. Bose, Secretary, Federal Energy Regulatory Commission, 888 First Street, NE., Washington, DC 20426.

Anyone may intervene in this proceeding based on this draft EIS (18 CFR 380.10). You must file your request to intervene as specified above.¹ You do not need intervenor status to have your comments considered.

¹ Interventions may also be filed electronically via the Internet in lieu of paper. See the previous discussion on filing comments electronically.

In addition to or in lieu of sending written comments, you are invited to attend a public meeting that will be held to receive comments on the draft EIS. The time and location of the meeting is as follows:

Morning Meeting

Date: September 9, 2010.

Time: 9 a.m.-11 p.m.

Place: Holiday Inn Hotel.

Address: 1900 Hilltop Dr., Redding, CA.

Evening Meeting:

Date: September 9, 2010,

Time: 7 p.m.-9 p.m.

Place: Holiday Inn Hotel.

Address: 1900 Hilltop Dr., Redding, CA.

At these meetings, resource agency personnel and other interested persons will have the opportunity to provide oral and written comments and recommendations regarding the draft EIS. The meetings will be recorded by a court reporter, and all statements (verbal and written) will become part of the Commission's public record for the project. This meeting is posted on the Commission's calendar located at http://www.ferc.gov/EventCalendar/EventsList.aspx along with other related information.

For further information, please contact Emily Carter at (202) 502-6512 or at emily.carter@ferc.gov.

Kimberly D. Bose,
Secretary.

[FR Doc. 2010-19668 Filed 8-9-10; 8:45 am]

BILLING CODE 6717-01-P